DEPARTMENT OF HOMELAND SECURITY

Coast Guard

33 CFR Part 165

[Docket Number USCG-2024-0195]

RIN 1625-AA00

Safety Zone; Narragansett Bay, Newport, RI

AGENCY: Coast Guard, DHS.

ACTION: Temporary final rule.

SUMMARY: The Coast Guard is establishing a temporary safety zone for certain waters of the East Passage, Narragansett Bay, RI. This action is necessary to provide for the safety of life on these navigable waters near East Passage, Narragansett Bay, RI, during a sailboat race. Entry of vessels or persons into this zone is prohibited unless specifically authorized by the Captain of the Port Sector Southeastern New England or a designated representative.

DATES: This rule is effective from 10:30 a.m. on June 21, 2024, through 6:30 p.m. on June 22, 2024. The rule will only be subject to enforcement from 10:30 a.m. to 6:30 p.m. on June 21, 2024, unless the event time is changed because of weather conditions in which case it may be subject to enforcement those same hours on June 22, 2024.

ADDRESSES: To view documents mentioned in this preamble as being available in the docket, go to https://www.regulations.gov, type USCG-2024-0195 in the search box and click “Search.” Next, in the Document Type column, select “Supporting & Related Material.”

FOR FURTHER INFORMATION CONTACT: If you have questions about this rule, call or email MST2 Christopher Matthews, Waterways Management Division, Sector Southeastern New England, U.S. Coast Guard; telephone 571-610-4969, email SENEWWM@uscg.mil.

SUPPLEMENTARY INFORMATION:

I. Table of Abbreviations

CFR Code of Federal Regulations

COTP Captain of the Port Sector Southeastern New England

DHS Department of Homeland Security

FR Federal Register

NPRM Notice of proposed rulemaking

§ Section

U.S.C. United States Code

II. Background Information and Regulatory History

On January 31, 2024, an organization notified the Coast Guard that it will be conducting a sailboat race from 10:30 a.m. to 6:30 p.m. on June 21, 2024, with a rain date of June 22, 2024. The sailboat race will launch from the East Passage in Narragansett Bay south of Rose Island.

After determining that establishment of a safety zone was necessary to provide for the safety of life, property, and the environment during the sailboat race, on April 2, 2024, the Coast Guard published a notice of proposed rulemaking (NPRM) titled “Safety Zone; Narragansett Bay, Newport, RI” 89 FR 22645. There we explained why we issued the NPRM and invited comments on our proposed regulatory action related to this sailboat race. During the comment period that ended May 2, 2024, we received two comments.

Under 5 U.S.C. 553(d)(3), the Coast Guard finds that good cause exists for making this rule effective less than 30 days after publication in the Federal Register. The comment period for the NPRM associated with the sailboat race ended on May 2, 2024, and the race is scheduled to begin June 22, 2024. Thus, there is insufficient time to allow for 30 days before the rule becomes effective. Delaying the effective date of this rule would be impracticable because prompt action is needed to respond to the potential safety risks associated with the sailboat race.

III. Legal Authority and Need for Rule

The Coast Guard is issuing this rule under authority in 46 U.S.C. 70034. The Captain of the Port Sector Southeastern New England (COTP) has determined that there are potential hazards associated with the sailboat race on June 21, 2024. The purpose of this rule is to ensure safety of vessels and the navigable waters in the safety zone before, during, and after the scheduled event.

IV. Discussion of Comments, Changes, and the Rule

As noted above, we received two comments on our NPRM published April 2, 2024. The comments did not pertain to the proposed rule. One comment was unrelated to our rule, referring to wind farms, while the other was an incomplete comment. There is one editorial change to the regulatory text of this rule from the proposed rule in the NPRM. Specifically, we corrected “security zones” to “safety zones”.

This rule establishes a safety zone from 10:30 a.m. to 6:30 p.m. on June 21, 2024, with a rain date of June 22, 2024. The safety zone covers one of three possible locations depending on the weather. Safety Zone “A” will cover all navigable waters from an area just south of Rose Island near Fort Adams. Safety Zone “B” for inclement weather will cover all navigable waters near Brenton Point. Safety Zone “C” will cover all navigable waters from an area south of Rose Island near Castle Hill, RI.

The location of the Safety Zone “A” is as follows:

Latitude | Longitude
41°29′08″ N | 071°20′04″ W: thence to
41°28′27″ N | 071°20′40″ W: thence to
41°28′38″ N | 071°21′14″ W: thence to
41°29′25″ N | 071°20′52″ W: and thence to the point of beginning.

If weather conditions prohibit a safe race start within the approach to Newport Harbor using Safety Zone “A” the race will begin offshore using Safety Zone “B” or Safety Zone “C”:

The location of the Safety Zone “B” is as follows:

Latitude | Longitude
41°26′04″ N | 071°22′16″ W: thence to
41°25′36″ N | 071°21′58″ W: thence to
41°25′21″ N | 071°22′38″ W: thence to
41°25′49″ N | 071°22′56″ W: and thence to the point of beginning.

The location of the Safety Zone “C” is as follows:

Latitude | Longitude
41°27′57″ N | 071°21′44″ W: thence to
41°27′16″ N | 071°22′00″ W: thence to
41°27′27″ N | 071°22′50″ W: thence to
41°28′08″ N | 071°22′34″ W: and thence to the point of beginning.

The starting line will take place within one of the regulated areas and will be decided prior to the race pending current weather conditions. The starting line box will be the restricted part of the waterway within the regulated area and that exact location will be broadcasted prior to the race start. The duration of the safety zone is intended to ensure the safety of vessels and these navigable waters before, during, and after the scheduled sailboat race. No vessel or person is permitted to enter the safety zone without obtaining permission from the COTP or a designated representative. They may be contacted on VHF-FM Channel 16 or by phone at 866-819-9128. Persons and vessels permitted to enter this safety zone must transit at their slowest safe speed and comply with all lawful directions issued by the COTP or a designated representative. The COTP or a designated representative will inform the public through broadcast notices to mariners of the enforcement period for the safety zone as well as any changes in the planned schedule. The regulatory text appears at the end of this document.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of day of the regulated area. We expect the adverse economic impact to this area to be minimal. Although this regulation may have adverse impact on the impact, the potential impact will be minimized for the following reasons: the safety zone will be in effect for a maximum of 8 hours during the day of the event; vessels will only be restricted from the area in the East Passage of the Narragansett Bay during those limited periods when the races are actually on going; there is an alternate route, the West Passage of Narragansett Bay, that does not add substantial transit time, is already routinely used by mariners, and will not be affected by this safety zone. Moreover, the Coast Guard will issue a Broadcast Notice to Mariners (BNMs) via VHF-FM marine channel 16 about the area, and the rule will allow vessels to seek permission to enter the area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone lasting 8 hours that would prohibit entry within the regulated area in Narragansett Bay near Newport, RI. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T01-0195 to read as follows:

§ 165.T01-0195 Safety Zone; Narragansett Bay, Newport, RI.

(a) Location. Only one safety zone will be enforced based on the local weather conditions the day of the race. We will make notice of exactly what safety zone will be enforced via Broadcast Notice to Mariners via marine channel 16 (VHF-FM).

The following areas are safety zones.

(1) Safety Zone “A” encompasses all navigable waters located within the following latitude and longitude points:

Latitude | Longitude
41°29′08″ N | 071°20′04″ W: thence to
41°28′27″ N | 071°20′40″ W: thence to
41°28′38″ N | 071°21′14″ W: thence to
41°29′25″ N | 071°20′52″ W: and thence to the point of beginning.

(2) Safety Zone “B” encompasses all navigable waters located within the following latitude and longitude points:

Latitude | Longitude
41°26′04″ N | 071°22′16″ W: thence to
41°25′36″ N | 071°21′58″ W: thence to
41°25′21″ N | 071°22′38″ W: thence to
41°25′49″ N | 071°22′56″ W: and thence to the point of beginning.

(3) Safety Zone “C” encompasses all navigable waters located within the following latitude and longitude points:

Latitude | Longitude
41°27′57″ N | 071°21′44″ W: thence to
41°27′16″ N | 071°22′00″ W: thence to
41°27′27″ N | 071°22′50″ W: thence to
41°28′08″ N | 071°22′34″ W: and thence to the point of beginning the point of beginning.

(b) Definitions. As used in this section, designated representative means a Coast Guard Patrol Commander, including a Coast Guard coxswain, petty officer, or other officer operating a Coast Guard vessel and a Federal, State, and local officer designated by or assisting the Captain of the Port Sector Southeastern New England (COTP) in the enforcement of the safety zone.

(c) Regulations. (1) Under the general safety zone regulations in subpart C of this part, you may not enter the safety zones described in paragraph (a) of this section unless authorized by the COTP or the COTP's designated representative.

(2) To seek permission to enter, contact the COTP or the COTP's representative on VHF-FM channel 16 or by telephone at 508-457-3211. Those in the safety zone must comply with all lawful orders or directions given to them by the COTP or the COTP's designated representative.

(d) Enforcement period. This section will be enforced from 10:30 a.m. to 6:30 p.m. on June 21, 2024, or June 22, 2024. To alleviate the effects of this rule on the public, the COTP may elect to temporarily suspend enforcement of these safety zones.

(e) Informational broadcasts. The COTP or a designated representative will inform the public through local notice to mariners and Broadcast Notices to Mariners of the enforcement period for the regulated area as well as any changes in the planned schedule.

Clinton J. Prindle,
Captain, U.S. Coast Guard, Captain of the Port Sector Southeastern New England.

[FR Doc. 2024-12627 Filed 6-7-24; 8:45 am]

BILLING CODE 9110-04-P